DEPARTMENT OF AGRICULTURE

Office of Partnerships and Public Engagement

[FOA No.: OPPE-016]

Catalog of Federal Domestic Assistance (CFDA) No.: 10.443—Outreach and Assistance for Socially Disadvantaged Farmers and Ranchers and Veteran Farmers and Ranchers

AGENCY: Office of Partnerships and Public Engagement (OPPE), Agriculture (USDA).

ACTION: Funding Opportunity Announcement (FOA) for fiscal year 2021.

SUMMARY: This notice announces the availability of funds for fiscal year (FY) 2021 and solicits applications from community-based and non-profit organizations, institutions of higher education, and Tribal entities to compete for financial assistance through the Outreach and technical assistance for Socially Disadvantaged Farmers and Ranchers and Veteran Farmers and Ranchers Program (hereinafter referred to as the “2501 Program”). The overall goal of the 2501 Program is to encourage and assist socially disadvantaged farmers and ranchers, veteran farmers and ranchers, and beginning farmers and ranchers with owning and operating farms and ranches and in participating equitably in the full range of agricultural, forestry, and related programs offered by USDA. In partnership with the OPPE, eligible entities may compete for funding on projects that provide education and training in agriculture, agribusiness, forestry, agriculturally related services, and USDA programs, and to conduct outreach initiatives designed to accomplish those goals. This partnership includes working closely with OPPE, attend OPPE-led events in your proposed service territory, and collaborate with your State Food and Agriculture Council (SFAC). The SFAC consists of leadership in each state of the following agencies: Farm Service Agency, Natural Resources Conservation Service, and Rural Development.

DATES: Only one project proposal may be submitted per eligible entity. Proposals must be submitted through Grants.gov (www.grants.gov) and received by August 25, 2021, at 11:59 p.m. EDT. Proposals submitted after this deadline will not be considered for funding.

ADDRESSES: The OPPE will host two (2) webinars during the open period of this announcement as provided below. Sessions will be recorded. Additional sessions may be necessary to answer questions and clarify requirements. There is no registration required to participate.

Session 1: July 28, 2021, at 2:00 p.m. EDT—To join the conference, click: https://ems8.intellor.com/login/839760 Follow the prompts to connect audio by computer or telephone. If you are unable to join the web conference or require a non-US phone number, click here. Access Code: 5066171#.

Session 2: August 10, 2021, at 2:00 p.m. EDT—To join the conference, click: https://ems8.intellor.com/login/839761 Follow the prompts to connect audio by computer or telephone. If you are unable to join the web conference or require a non-U.S. phone number, click here. Access Code: 7821646#.

Filing a Complaint of Discrimination

To file a program discrimination complaint, you may obtain a complaint form by sending an email to OAC@usda.gov. You or your authorized representative must sign the complaint form. You are not required to use the complaint form. You may write a letter instead. If you write a letter, it must contain all the information requested in the form and be signed by you or your authorized representative. Incomplete information will delay the processing of your complaint. Employment civil rights complaints will not be accepted through this email address.

Send your completed complaint form or letter to USDA by mail, fax, or email:

Mail:

U.S. Department of Agriculture Director, Center for Civil Rights Enforcement, 1400 Independence Avenue SW, Washington, DC 20250-9410.

Email: program.intake@usda.gov.

Fax: (202) 690-7442.

FOR FURTHER INFORMATION CONTACT: U.S. Department of Agriculture, Office of Partnerships and Public Engagement, Attn: Kenya Nicholas, Program Director, Jamie L. Whitten Building, Room 520-A, 1400 Independence Avenue SW, Washington, DC 20250.

Phone: (202) 720-6350.

Fax: (202) 720-7704.

Email: 501Grants@usda.gov.

Persons with Disabilities: Persons who require alternative means for communication (Braille large print, audiotape, etc.), should contact USDA's TARGET Center at (202) 720-2600 (voice and TDD). Additionally, alternative means for submissions due to disability status will be approved on a case-by-case basis.

SUPPLEMENTARY INFORMATION: Funding/Awards: The total funding provided for this competitive program is approximately $16.6 million as provided in the 2018 Farm Bill.

The OPPE will award grants from this announcement, subject to availability of funds and the quality of applications received. All applicants will compete based on their organization's entity type (e.g., nonprofit organization, tribal entity, or higher education institution), as described below. The project period must be three (3) years for all proposals. The maximum amount of requested federal funding for projects shall not exceed $750,000 over the 3-year period. Additionally, the maximum award per year is $250,000. Projects will be funded in accordance with the approved statement of work and the OPPE Guidelines to maximize outreach, education and technical assistance ensuring geographical distribution of funds as required in section 7 U.S.C. 2279(c)(4)(G).

Funds will be awarded to eligible entities that have at least three (3) years of documented experience, preceding the submission of an application, in working with socially disadvantaged farmers and ranchers or veteran farmers and ranchers to improve their ability to start and maintain successful forestry and/or agricultural-related operations. The Secretary shall give priority to nongovernmental and community-based organizations with demonstrated history of serving socially disadvantaged and veteran farmers and ranchers (see Section V. Application Review Information).

An applicant MUST be an entity or organization. Individuals and for-profit organizations do not meet the eligibility criteria.

Funds under this program may not be used for the planning, repair, rehabilitation, acquisition, or construction of a building or facility. Program funds may not be used for start-up or financing costs for businesses. Additionally, funds may not be used for an organization's capacity building, which is defined as the development of organizational competencies, strategies, or systems and structures in order to improve organizational efficiency and effectiveness. Program funds may also not be used as small agricultural loans for individual farmers or used to incentivize individuals to attend an event. Finally, large equipment purchases such as vehicles, semi-tractors, or refrigeration systems are unallowable under this program.

Eligible entities may receive subsequent years funding provided that:

(a) Activities and associated costs do not overlap with projects awarded in previous years; and

(b) Recipients are current and compliant with financial and performance reporting. The progress of existing projects, along with the percentage of funds used to date, may impact funding decisions.

Funding will be awarded based on ranked scores comprised of the three categories described below, along with the amount of anticipated funding for each category. The OPPE has discretion to allocate funding among the three categories based upon the number and quality of applications received. There is no commitment by the OPPE to fund any particular application nor is there a minimum number of recipients within each category.

Category #1: Eligible entities described in Sections III.A.2, III.A.3, and III.A.4

(1890 Land-Grant colleges and universities, 1994 Tribal Land-Grant, Alaska Native and American Indian Tribal colleges and universities, and Hispanic-Serving Institutions of higher education).

Category #2: Eligible entities described in Sections III.A.1 and III.A.6 (i.e., nonprofit organizations, community-based organizations, including a network or a coalition of community-based organizations, Federally-recognized Indian Tribes (as defined in 25 U.S.C. 5131), and National Tribal organizations).

Category #3: Eligible entities described in Sections III.A.5 and III.A.7 (i.e., all other institutions of higher education including 1862 colleges, nonprofit organizations without a 501(c)(3) status certification from the IRS, and an organization or institution that received funding under this program before January 1, 1996).

Contents of This Announcement:

I. Funding Opportunity Description

A. Background

B. Scope of Work

C. Anticipated Outputs (Activities), Outcomes (Results), and Performance Measures

II. Award Information

A. Statutory Authority

B. Expected Amount of Funding

C. Project Period

D. Award Type

III. Eligibility Information

A. Eligible Entities

B. Cost-Sharing or Matching

C. Threshold Eligibility Criteria

IV. Proposal and Submission Information

A. Data Universal Numbering System

B. System for Award Management (SAM)

C. Obtain Proposal Package From Grants.gov (www.grants.gov)

D. Content of Proposal Package Submission

E. Sub-Awards and Partnerships

F. Submission Dates and Times

G. Confidential Information

H. Pre-Submission Proposal Assistance

V. Application Review Information

A. Evaluation Criteria

B. Evaluation Criteria for New Grants Proposals

C. Selection of Reviewers

VI. Award Administration Information

A. Award Notices

B. Administrative and National Policy Requirements

C. Reporting Requirement

I. Funding Opportunity Description

A. Background

The OPPE is committed to ensuring that socially disadvantaged and veteran farmers and ranchers can equitably participate in USDA programs. Differences in demographics, culture, economics, language, and other factors preclude a single approach to identifying solutions that can benefit underserved farmers and ranchers. Grants are provided to community-based and non-profit organizations, higher education institutions, eligible Tribal entities and other eligible entities with at least three (3) years of documented experience, preceding the submission of an application. Eligible entities working with socially disadvantaged farmers and ranchers or veteran farmers and ranchers can improve their ability to start and maintain successful forestry and/or agricultural-related operations. With 2501 Program funding, organizations can provide agricultural outreach and technical assistance and extend outreach and education efforts to connect with and assist socially disadvantaged and veteran farmers and ranchers to provide them with information on available USDA resources.

1. The 2501 Program was authorized by the Food, Agriculture, Conservation, and Trade Act of 1990. The Food, Conservation, and Energy Act of 2008 expanded the authority of the Secretary of Agriculture (the Secretary) to provide awards under the program and transferred the administrative authority to the OPPE. The Agricultural Act of 2014 further expanded the program to include outreach and technical assistance to veterans. The 2501 Program extends USDA's capacity to work with members of farming and ranching communities by funding projects that enhance the equitable participation of socially disadvantaged and veteran farmers and ranchers in USDA programs. It is the OPPE's intention to build lasting relationships among USDA, recipient organizations, and socially disadvantaged and veteran farmers and ranchers to maximize the availability of outreach and technical assistance in targeted communities.

2. Only one proposal will be accepted from each organization. This does not apply to applicants in the State of Massachusetts. The State fiscal transfer agent may submit multiple proposals ensuring that only one proposal is submitted on behalf of each of its individual fiscally sponsored organizations.

B. Scope of Work

The 2501 Program provides funding to eligible organizations with at least 3 years of documented experience, preceding the submission of an application, in working with socially disadvantaged farmers and ranchers or veteran farmers and ranchers to improve their ability to start and maintain successful forestry and/or agricultural-related operations. This is a non-construction grant. Proposals must be consistent with requirements stated in 7 U.S.C. 2279(c)(3). Under this statute, the outreach and technical assistance program funds shall be used exclusively:

1. To enhance coordination of the outreach, technical assistance, education, and training efforts authorized under USDA agriculture programs;

2. To assist the Secretary of Agriculture in:

a. Reaching current and prospective socially disadvantaged farmers or ranchers, veteran farmers or ranchers, or beginning farmers and ranchers in a linguistically appropriate manner; and

b. improving the participation of those farmers and ranchers in USDA programs.

There are five programmatic mission areas that support the goals of the 2501 Program. Proposals from eligible entities must address at least two of the five following programmatic mission areas as they develop their goals:

i. Assist socially disadvantaged, veteran farmers and ranchers, or beginning farmers and ranchers in owning and operating successful farms and ranches;

ii. Improve participation among socially disadvantaged or veteran farmers and ranchers in USDA programs;

iii. Build relationships between current and prospective farmers and ranchers who are socially disadvantaged or veterans and USDA's local, state, regional, and National offices;

iv. Assist in reaching current and prospective socially disadvantaged farmers, ranchers, or forest landowners in a linguistically appropriate manner; and

v. Assist with identifying problems and barriers identified by entities in trying to increase participation by current and prospective socially disadvantaged farmers or ranchers.

The OPPE shall seek input from eligible entities providing technical assistance under this subsection not less than once each year to ensure that the program is responsive to the eligible entities providing that technical assistance (7 U.S.C. 2279(c)(4)(J)). The OPPE may require Project Directors to attend an Annual Meeting that can be expensed with awarded grant funds not to exceed $1,800 per award year. The Annual Meeting will allow participants, USDA officials, and other agriculture-related industry participants to network, encourage partnerships, share best practices (including COVID-related strategies used to assist targeted communities), discuss programmatic requirements, share information on new and enhanced USDA programs and services, and obtain programmatic feedback. Stakeholder input will also be accepted by those unable to attend the Annual Meeting in person by September 30th of each fiscal year at: 2501Grants@usda.gov.

C. Anticipated Outputs (Activities), Outcomes (Results), and Performance Measures

1. Outputs (Activities). The term “output” means an outreach, educational component, or assistance activity, task, or associated work product related to improving the ability of socially disadvantaged or veteran farmers and ranchers to own and operate farms and ranches, assistance with agriculture related activities, or guidance for participation in USDA programs. Outputs must be measurable during the period of performance.

Outputs describe an organization's activities and their participants such as: Number of workshops or meetings held and number of participants attending (including a list of participants with contact information); frequency of services or training delivered and to whom; development of products or resources provided. Other examples include but are not limited to the following:

a. Serve 300 socially disadvantaged and/or veteran farmers or ranchers by the end of the grant;

b. Conduct 12 workshops or training through virtual and/or in-person sessions, regarding animal husbandry, annually;

c. Assist 100 new farmers/ranchers to be able to process and accept SNAP payments;

d. Host 72 demonstrations on hoop house construction at the rate of 2 per month over a three-year period;

e. Develop a program to enhance the operational viability of socially disadvantaged and/or veteran farmers and ranchers;

f. Conduct Title Resolution Consultations for 10 socially disadvantaged farmers and ranchers with forest land, 3 of whom will receive title resolution plans & legal technical assistance annually;

g. Provide assistance to 300 socially disadvantaged farmers resulting in the submission of FSA loan and grant applications to expand farming operations at the rate of 25 per quarter per fiscal year; or

h. Hold 12 workshops annually to provide socially disadvantaged or veteran farmers and ranchers training in writing business plans, financial literacy or in automating their farming business.

2. Outcomes (Results). The term “outcome” means the difference or effect that has occurred as a result from carrying out an activity, workshop, meeting, or from delivery of services related to a programmatic goal or objective. It is also the final impact or change that occurs as a direct result of the activities performed in accomplishing the objectives and goals of your project. Outcomes may refer to results that are agricultural, behavioral, social, or economic in nature. Outcomes may reflect an increase in knowledge or skills, a greater awareness of available resources or programs, or actions taken by stakeholders as a result of learning. Specifically, outcomes must be quantitative as it relates to the project goals and objectives. Project Directors will be required to document anticipated outcomes that are funded under this announcement including, but not limited to the following:

a. Documenting the actual number of new farmers and/or ranchers your organization assisted as a result of your project and the type of assistance (i.e., number of farms or ranches started, maintained, or improved as a result of funds made available under the program);

b. Documenting race, sex, national origin, disability (if provided) and number of socially disadvantaged and/or veteran farmers or ranchers applying for USDA programs and services by program area;

c. Documenting race, sex, national origin, disability (if provided) and number of USDA program applications approved for funding, by program area, for socially disadvantaged or veteran farmers or ranchers as a result of your activities;

d. Documenting the number of socially disadvantaged or veteran farmers and/or ranchers that have better access to USDA Programs as a result of your outreach and/or training efforts;

e. Documenting the enhanced sustainability and retention of farming operations among socially disadvantaged or veteran farmers or ranchers;

f. Documenting higher profitability and economic stability among socially disadvantaged or veteran farmers or ranchers resulting from increased access to marketing and enhanced sales opportunities for their products; and

g. Documenting through surveys an increase in the awareness and number and types of USDA programs and services as a result of your project.

3. Project Performance Measures. Project performance measures are tied to the goals or objectives of each activity and ultimately the overall purpose of the project. They provide progress and completion information of proposed activities and may indicate areas where a project may need adjustments. Applicants must develop performance measure targets for each of the proposed activities. These targets will be used as a mechanism to track the progress and success of the project. Project performance measures must include the assumptions used to make those estimates. Specifically, outcomes must be quantitative as it relates to the project goals and objectives.

Consider the following questions when developing performance measurement statements:

• What are the measurable short-term and long-term goals our project will have on serving the needs of our stakeholders?

• How will my organization measure the effectiveness and efficiency of our proposed activities to meet the overall goals and objectives for this project?

• Will agriculture producers or beginning farmers and ranchers gain an understanding in production, marketing, business management, and legal business issues? Will they develop their business acumen or implement or incorporate what they have learned?

• How will I collect those performance measurement data? What evidence will I use with this measure?

II. Award Information

A. Statutory Authority

The statutory authority for this action is 7 U.S.C. 2279(c), which authorizes award funding for projects designed to provide outreach and technical assistance to socially disadvantaged or veteran farmers or ranchers.

B. Expected Amount of Funding

The total estimated funding expected to be available for awards under this competitive opportunity is approximately $16.6 million. The maximum amount of requested federal funding shall not exceed $750,000.

C. Project Period

The performance period for projects selected from this solicitation will not begin prior to the effective award date listed in the grant agreement. The project period must be no less three (3) years.

D. Award Type

Funding for selected projects will be in the form of a grant agreement which must be fully executed no later than September 30 annually. The anticipated Federal involvement will include, but not limited to, the following activities:

1. Approval of recipients' final budget and Project Narrative or statement of work accompanying the grant agreement;

2. Monitoring of recipients' performance through semi-annual and final financial and performance reports; and

3. Conducting on-site monitoring visits to review compliance, use of Federal funds and fidelity in implementing the project.

All award notifications will be “conditionally approved” pending final validation of all selected applicants' submission documentation and/or application package. OPPE reserves the right not to fund any “conditionally approved” application(s) found to be ineligible after final validation.

III. Eligibility Information

A. Eligible Entities

1. Any non-profit, community-based organizations, tribal entity, networks, or a coalition of community-based organizations with at least 3 years of documented expertise in working with socially disadvantaged farmers or ranchers or veteran farmers or ranchers that:

• Demonstrates experience in providing agricultural education or other agriculturally related services on USDA programs and services to socially disadvantaged or veteran farmers or ranchers;

• provides documentary evidence of work with, and on behalf of, socially disadvantaged, veteran farmers or ranchers, or beginning farmers and ranchers during the 3-year period preceding the submission of a proposal for assistance under this program (the lead applicant and/or any organization(s) comprising of a coalition or network must meet the three-year period preceding the submission criteria); and

• does not or has not engaged in activities prohibited under Section 501(c)(3) of the Internal Revenue Code of 1986.2.

2. An 1890 or 1994 land-grant institution of higher education (as defined in 7 U.S.C. 7601 and in Section 533 of the Equity in Educational Land-Grant Status Act of 1994 (7 U.S.C. 301 note)).

3. An American Indian Tribal community college or university or an Alaska Native cooperative college.

4. A Hispanic-Serving Institution of higher education (as defined in 7 U.S.C. 3103).

5. Any other institution of higher education (as defined in 20 U.S.C. 1001) that has demonstrated experience in providing agricultural education or other agricultural-related services to socially disadvantaged or veteran farmers or ranchers.

6. Any Federally-recognized Indian Tribe (as defined in 25 U.S.C. 5131) or a national tribal organization that has demonstrated experience in providing agricultural education or other agriculturally related services to socially disadvantaged or veteran farmers or ranchers.

7. All other organizations or institutions that received funding under this program before January 1, 1996, but only with respect to projects that the Secretary considers similar to projects previously carried out by the entity under this program.

B. Cost-Sharing or Matching

There are no cost-sharing nor matching requirements associated with this program. Applicants may charge their negotiated indirect cost rate or 10 percent, whichever is lower. Indirect cost rates exceeding 10 percent will not be permitted.

C. Threshold Eligibility Criteria

Applications from eligible entities that meet all criteria will be evaluated as follows:

1. Proposals must comply with the submission instructions and requirements set forth in Section IV of this announcement. Pages greater than the page limitation will not be considered.

2. Proposals must be received through Grants.gov (www.grants.gov) as specified in Section IV of this announcement on or before the proposal submission deadline. Applicants will receive an electronic confirmation receipt of their proposal from Grants.gov.

3. Proposals received after the submission deadline will not be considered. Note that in order to submit proposals, organizations must create accounts in Grants.gov and in the System for Awards Management (www.SAM.gov); both of which could take several weeks. Therefore, it is strongly suggested that organizations begin this process immediately. Registering early could prevent unforeseen delays in submitting your proposal.

4. Proposals must address a minimum of two programmatic mission areas listed in Section I, Part B, (i-v) to provide outreach and technical assistance to socially disadvantaged or veteran farmers or ranchers.

5. Recipients of a 2501 Grant with a Period of Performance that extends beyond 90 days of the current fiscal year are not eligible to apply (this does not apply to grantees with a no-cost extension). For example, current 2501 Grant recipients must complete their projects by the end of the current calendar year, to be eligible to apply.

6. Incomplete or partial applications will not be eligible for consideration. Any required documents missing from an applicant's application will render that applicant ineligible and the application will not be forwarded to the External Peer Review Panel (the Panel) for review. Additionally, applications may not be accepted for review if they exceed the maximum allowable pages for the Project Narrative, exceed the maximum federal budget request, or propose objectives that do not fit the purpose and scope of the 2501 Program. See Section IV. Content of Proposal Package Submission, subparagraph D, for required documents.

IV. Proposal and Submission Information

A. Data Universal Numbering System

In accordance with the Federal Funding Accountability and Transparency Act (FFATA) and the USDA implementation, all applicants must obtain and provide an identifying number from Dun and Bradstreet's (D&B) Data Universal Numbering System (DUNS). Applicants can receive a DUNS number, at no cost, by calling the toll-free DUNS number request line at (866) 705-5711 or visiting the D&B website at www.dnb.com.

B. System for Award Management (SAM)

SAM.gov streamlines the application process and reduces applicant burden by enabling applicants to complete the required Financial Assistance Representations and Certifications in SAM.gov when applying for any Federal assistance.

It is a requirement to register for SAM (www.sam.gov). There is NO fee to register for this site. This registration must be maintained and updated annually. Applicants can register or update their profile, at no cost, by visiting the SAM website at www.sam.gov. This is a requirement to registering for Grants.gov where all organizations must submit their application.

Depending on the type of Federal Assistance your organization requests, you may need to complete the Federal Acquisition Regulation (FAR) report, but for OPPE Federal assistance, you must complete the Financial Assistance Representations and Certifications Report. Completing this report certifies that your organization is in compliance with all relevant provisions of Federal laws, executive orders, regulations, and public policies governing financial assistance awards.

Per 2 CFR part 200, applicants are required to: (1) Be registered in SAM prior to submitting an application; (2) provide a valid unique entity identifier in the application; and (3) continue to maintain an active SAM registration with current information at all times during which the organization has an active Federal award or an application or plan under consideration by a Federal awarding agency. The OPPE may not make a Federal award to an applicant until the applicant has complied with all applicable unique entity identifier and SAM requirements. If an applicant has not fully complied with the requirements by the time the OPPE is ready to make a Federal award, the OPPE may determine that the applicant is not qualified to receive a Federal award and use that determination as a basis for making a Federal award to another applicant. Additionally, organizations found to have unresolved key personnel exclusions will not be awarded.

SAM contains the publicly available data for all active exclusion records entered by the Federal Government identifying those parties excluded from receiving Federal contracts, certain subcontracts, and certain types of Federal financial and non-financial assistance and benefits. All applicant organizations and their key personnel will be vetted through SAM to ensure compliance with this requirement. Organizations identified as having delinquent Federal debt may contact the Treasury Offset Program at (800) 304-3107 for instructions on resolution but will not be awarded a 2501 Program grant prior to resolution.

Should an applicant be awarded a grant, ezFedGrants (USDA's financial grants management system) is linked with SAM to ensure funding payments are directed properly as entities must enter their banking information through SAM; as a result Federal agencies cannot award funding to any organization not properly/fully registered is SAM.

C. Obtain Proposal Package From Grants.gov (www.grants.gov)

Federal agencies post competitive funding opportunities on Grants.gov and applicants must submit their application or proposal to apply for Federal assistance through Grants.gov. Applicants can learn about grants by visiting Grants.gov (www.grants.gov), clicking on the Learn Grants tab and search for funding opportunities by clicking on the Search Grants tab on this site.

All Applicants will be required to register with Grants.gov in order to begin the proposal submission process. We strongly suggest you initiate this process immediately to avoid processing delays due to registration requirements. There is no cost for registration. This website is managed by the Department of Health and Human Services, not the OPPE. Many Federal agencies use this website to post Funding Opportunity Announcements (FOA). Click on the “Support” tab to contact their customer support personnel if you need help with submitting your application.

Applicants may download individual grant proposal forms from Grants.gov. For assistance with Grants.gov, consult the Applicant User Guide at http://grants.gov/assets/ApplicantUserGuide.pdf.

Federal agencies post funding opportunities on Grants.gov. The OPPE is not responsible for submission issues associated with Grants.gov. If you experience submission issues, contact Grants.gov support staff for assistance.

Proposals must be submitted by August 25, 2021, via Grants.gov at 11:59 p.m. EDT. Proposals submitted after this deadline will not be considered.

D. Content of Proposal Package Submission

All submissions must contain completed and electronically signed original application forms, as well as a Project Narrative and a Budget Narrative as described below:

1. Required forms, documents, and attachments. The forms listed below can be found in the proposal package at Grants.gov and must be submitted with all applications. Required forms are provided in the package as fillable forms. Applicants must download and complete these forms and submit them in the application submission portal at Grants.gov. PDF documents listed below are documents the applicant must create and submit in PDF format. Use the checklist of required documents below to submit your application through Grants.gov:

✓ Standard Form (SF) 424, Application for Federal Assistance

✓ Project/Performance Site Location(s)

✓ Project Abstract Summary

✓ Project Narrative (in PDF format)

✓ Standard Form (SF) 424A, Budget Information—Non-Construction Programs

✓ Budget Narrative (in PDF format)

✓ Key Contacts

✓ Grants.gov Lobbying Form

✓ Articles of Incorporation for non-profit organizations & community-based organization; attach under “Attachments Form”—see next bullet)

✓ Attachments Form (where you may place all your appendices, i.e., Letters of Partnership, Letters of Intent, Resumes, Articles of Incorporation, other supporting documents, etc.)

Do not include lengthy or unnecessary organizational documents such as your organization's business plans, Annual Reports, or full course or training curriculums in your application. Excessively large documents in applications are cumbersome and increase downloading errors from Grants.gov and in forwarding to the Panel members.

Note, additional required forms from organizations being awarded 2501 Grant funds will be provided for execution upon grant approval if necessary.

Below is further guidance, where needed, for completing the required forms, documents, and attachment forms listed above.

SF-424, Application for Federal Assistance: Complete all highlighted areas on this form. Pay particular attention to block 18a of the SF-424. This is the total amount of Federal funding you are requesting under the 2501 Program. This form is the official requesting document and the amount that will be considered if you should have any discrepancies between this form and your Budget Information Form, SF-424A. Ensure this form is completed with accuracy, particularly email addresses and phone numbers. The OPPE may not be able to reach you if your information is incorrect.

Project/Performance Site Location(s): Complete all highlighted areas on this form. Add additional locations if your project will be carried out at additional sites.

Project Abstract Summary: A Project Abstract Summary is a concise summary about your project. No points will be given or subtracted for the Project Summary Page as it will be used only for informational purposes. It may be used in its entirety or in part for media purposes to include in press releases, informational emails to potential stakeholders or partners, to provide upper echelons of government with a snapshot of an organization, and for demographic purposes. Do not restate the objectives of the 2501 Program (i.e., “to provide outreach and technical assistance for socially disadvantaged farmers and ranchers and veterans farmers and ranchers”); the Project Abstract Summary should reflect the goal of your specific project. Limit your Project Abstract Summary to 250 words and include the following:

• Your organization's name;

• Name of your project;

• Three or four sentences describing your project;

• The primary populations/communities you serve;

• The project's geographic service area (counties, state(s), etc.); and

• Project Director's name, email address, and telephone number.

Project Narrative (not to exceed 30 double-spaced pages): The Project Narrative is a document that you create. It must include a timeline of proposed activities. Formatting requirements for Project Narratives are 1-inch margins and 12-point font, Number each page of the Project Narrative to indicate the total number of pages (i.e., 1 of 30, 2 of 30, etc.). To ensure fairness and uniformity for all applicants, Project Narratives not conforming to this stipulation may not be considered.

Project proposals should include a well-conceived strategy for addressing the programmatic mission areas stated in Section I, Part B, Scope of Work. Organizations should state which programmatic mission areas will be addressed. Additionally, proposals must: (1) Define and establish the existence of the needs of socially disadvantaged farmers or ranchers or veteran farmers or ranchers, or both; (2) identify the geographic area of service; and (3) discuss the potential impact of the project; (4) clearly state their 3-years of experience in delivering agriculture related services to socially disadvantaged or veteran farmers and ranchers and provide documented proof; and (5) clearly document how you plan to fulfill the requirement to coordinate efforts in partnership with the OPPE and USDA's SFAC to maximize outreach and training in your service territory.

• Programmatic Capability: Project proposals must: (1) identify the experience of the organization(s) and key personnel taking part in the project (past successes); (2) identify the names of organizations that will be your partners in the project if any; (3) identify the qualifications, relevant experience, education, and publications of each Project Director or collaborator; and (4) specifically address the work to be completed by key personnel and their roles and responsibilities within the scope of the proposed project. This includes partnering scenarios whereas each partners' roles and responsibilities must be defined.

• Financial Management Experience: Document a demonstrated ability to successfully manage and complete your project by including details of past successfully completed projects and financial management experiences.

• Tracking and Measuring: Clearly document a detailed plan for tracking and measuring project progress including the results of the project in terms of achieving expected project outputs and outcomes as stated in Section I, Part C, Performance Measures. This could include the tracking of the projected number of socially disadvantaged and/or veteran farmers and ranchers assisted in comparison to the actual, number of socially disadvantaged and/or veteran farmers and ranchers that have applied to USDA programs and services versus how many were funded, etc.

• In an organized format, create a timeline for each task to be accomplished during the period of performance timeframe. Relate each task to one of the five programmatic mission areas in Section I, Part B. The timeline is part of the 30-page limit but can be as simple as a one-page description of tasks. The timeline may be in a table format and does not have to be double-spaced.

Attach your Project Narrative in PDF format to the Mandatory Project Narrative form in your Grants.gov package.

SF-424A, Budget Information—Non-Construction Programs: Provide as much information as possible on the SF-424A, particularly for multi-year projects. For example, on page 1 of SF-424A, line 1 across may indicate year one of your project, line 2 across may indicate year two of your project, and line 3 across may indicate year three of your project. On page 1A of SF-424A, columns 1 through 3 may represent each year of your project. All cost categories on page 1A of this form are considered direct costs. Remember that your indirect cost rate may not exceed the 10 percent statutory limitation on indirect costs found in 7 U.S.C. 2279(l)(7).

Budget Narrative (not to exceed 5 pages): The Budget Narrative is a document that you create. It must be no more than five pages. It does NOT have to be double spaced. You may use tables. While the Federal awarding agency understands that your proposed budget is an estimation of costs, your Budget Narrative should be based on financial forecasting assumptions. The Budget Narrative should identify and describe the costs associated with the proposed project, including sub-awards or contracts and indirect costs. These costs should be very detailed and descriptive as to their purpose. Review 2 CFR part 200 Subpart E—Uniform Administrative Requirements, Cost Principles, and Audit Requirements for Federal Awards to ensure your project is not planned with unallowable costs. Applicants may charge their negotiated indirect cost rate or 10 percent, whichever is lower. Indirect cost rates exceeding 10 percent will not be permitted. Other funding sources may also be identified in the Budget Narrative. Each cost indicated must be reasonable, allocable, necessary, and allowable under Federal Cost Principles (2 CFR part 200, subpart E—Cost Principles) in order to be funded.

• Cost categories, also called Object Class Categories, include costs for Personnel, Fringe Benefits, Travel, Equipment, Supplies, Contractual, Construction, and Other costs.

Personnel costs: For each key staff person, provide the name (if known), title, time commitment to the project as a percentage of a full-time equivalent (FTE), annual salary, and grant funded salary. You may refer to the prevailing wage rates established by the Department of Labor by occupation and geographical area. Compensation for personnel services (whether classified as personnel, contractual services, or any other form) may not exceed the pro-rated equivalent of Step III of the Executive Schedule for Federal Employees.

Costs of consultants, subgrants, or contractors should be included in the “Contractual” cost category.

Fringe Benefits: Provide a break-down of amounts and percentages that comprise fringe benefit costs such as health insurance, FICA, retirement, etc.

Travel costs: Provide specifics on purpose of travel, number of travelers, destination, and estimates on costs for airfare, lodging, meals, car rentals, and incidentals. The Federal Travel Regulations should be used as a guide.

Equipment: Any article of nonexpendable, tangible personal property having a useful life of more than one year and an acquisition costs which equals or exceeds the lesser of (a) the capitalization level established by the organization for financial statement purposes, or (b) $5,000. For each type of equipment requested, provide a description of the equipment, the cost per unit, the number of units, the total cost, and a plan for use on the project, as well as use or disposal of the equipment after the project ends. The Recipient shall maintain an annual inventory, which will include a brief description of the item, serial number, and amount of purchase for equipment purchased with grant funds, or received under a grant, and having a $5,000 or more per unit cost. The inventory must also identify the sub-award under which the equipment was purchased. Maintenance and insurance will be the responsibility of the Recipient. Title of equipment will remain with the Recipient until closeout when disposition will be provided in writing by OPPE within 120 days of submission of final reports.

Supplies: Specify general categories of supplies and their costs. Show computations and provide other information which supports the amount requested.

Contractual costs: Costs should entail all contracts for services and goods that further the work of the project only.

• Include third party evaluation contracts (if applicable) and contracts with secondary recipient organizations. Demonstrate that all procurement transactions will be conducted in a manner to provide, to the maximum extent practical, free, fair, and open competition. Identify proposed sub-contractor work and the cost of each sub-contractor. Provide a detailed budget for each sub-contractor that is expected to perform work estimated to be $30,000 or more, or 50% of the total work effort, whichever is less.

• Identify each planned subcontractor and its total proposed budget. Each subcontractor's budget and supporting detail should be included as part of the applicant's budget narrative.

• Provide the following information for each planned subcontract: A brief description of the work to be subcontracted; the number of quotes solicited and received, if applicable; the cost or price analysis performed by the applicant; names and addresses of the subcontractors tentatively selected and the basis for their selection; e.g., unique capabilities (for sole source subcontracts), low bidder, delivery schedule, technical competence; type of contract and estimated cost and fee or profit; and, affiliation with the applicant, if any.

• Include all Subawards under Contractual Costs. Per 2 CFR part 200.1, Subaward means an award provided by a pass-through entity to a subrecipient for the subrecipient to carry out part of a Federal award received by the pass-through entity. It does not include payments to a contractor or payments to an individual that is a beneficiary of a Federal program. A subaward may be provided through any form of legal agreement, including an agreement that the pass-through entity considers a contract.

Subaward budgets: Roles and responsibilities must be defined to determine the level of involvement and efforts to increase training and outreach to socially disadvantaged farmers and ranchers. If applicable, identify each planned subawardee and its total proposed budget. Include a brief description of the work to be performed.

Other costs: Identify and describe in detail any other costs not identified in the above cost categories. Costs associated with an organization's day-to-day operations such as custodial workers would be an example of “Other” costs. Provide an itemized list with costs and state the basis for each proposed item.

Special notes when creating your budget:

1. 2501 Program funds may not be used for the planning, repair, rehabilitation, acquisition, or construction of a building or facility. Program funds may not be used for start-up or financing costs for businesses or for capacity building. Program funds may not be used as small agricultural loans for individual farmers or used to incentivize individuals to attend an event. Large equipment purchases such as vehicles, semi-tractors, or refrigeration systems are also unallowable under this program.

2. Costs must be deemed reasonable. This includes salaries for key personnel which may not exceed the prevailing wage rates established by the Department of Labor by occupation and geographical area (see 2 CFR part 200 .404 and Appendix II(D)).

3. Food for conferences may not exceed $10 per person per meal, not to exceed two meals per day. Additionally, cattle for demonstration projects only, may not exceed $4,000, which includes any transportation costs, feed/feeding lot, etc. Grant funds may NOT be used to pay attendees as an incentive for participation in conferences nor be advertised as such. For a list of unallowable costs, see 2 CFR part 200, subpart E.

Attach your Budget Narrative in PDF format to the Mandatory Budget Narrative form in your Grants.gov package.

Key Contacts Form: Provide first, middle, and last names of all key personnel that will be working on the proposed project. All organizations should submit at least a Project Director or Manager and a Financial Representative. Additional Key Contacts Forms may be used as necessary. Ensure this form is completed with accuracy. Individuals not listed on an applicants' Key Contacts Form will not receive information about or access to data that concerns the applicant organization.

Attachments Form for Appendices: Non-profit organizations must submit abbreviated Articles of Incorporation (must have been established at least 3 years prior to application submission). All applicants should submit résumés for key personnel; Letters of Commitment; Letters of Intent, Partnership Agreements, or Memoranda of Understanding with partner organizations; Letters of Support; 501(c)(3) certification from the IRS (if applicable), or other supporting documentation which is encouraged but not required. Using this form in your Grants.gov application package, applicants can consolidate all supplemental materials into one attachment or attach appendices documents individually. Do not include documents from other sections as an Appendix.

DO NOT PASSWORD PROTECT ANY OF YOUR SUBMITTED DOCUMENTS OR FORMS. Password protected documents cannot be viewed by the OPPE or the Panel.

E. Sub-Awards and Partnerships

Funding may be used to provide subawards, which includes using subawards to fund partnerships; however, the lead recipient must utilize at least 50 percent of the total funds awarded, and no more than three sub-awards will be permitted. Subawardees and partners are generally responsible for carrying out grant activities as assigned. All subawardees or partners are subject to the requirements and responsibilities on the grant and must be a nonprofit or institution of higher education. This does not apply to contractors as they support the grant activities by providing goods and services. All applicants, including the lead or prime applicant if applying as a coalition of nonprofits, are responsible for ensuring that all sub-awardees comply with applicable requirements for subawards and are subject to the Terms and Conditions of the Agreement, if awarded. Applicants must provide documentation of a competitive bidding process for services, contracts, and products, including consultants and contractors, and conduct cost and price analyses to the extent required by applicable procurement regulations.

The OPPE awards funds to one eligible applicant as the lead or prime award recipient. Indicate a lead or prime applicant as the responsible party if other organizations are named as partners or co-applicants or members of a coalition or consortium. The lead or prime award recipient will be held accountable to the OPPE for the proper administrative requirements and expenditure of all funds.

Per OMB guidance, Federal awarding agencies are required to check the SAM Exclusions list of persons and entities ineligible for Federal awards. This requirement flows down to Federal Award recipients who are required to check SAM Exclusions for all subawards and contracts. Prime recipients must obtain prior written approval from the awarding agency for all proposed subawards, regardless of size, for all subawards not included in the original proposal (see 2 CFR 200.308(c)(6)). For all subawards, prime recipients must confirm that they have conducted a risk-assessment of each of the proposed subrecipient(s) by name; and verify that each subrecipient does not have active exclusions in SAM and does not appear on the Suspension and Debarment List.

F. Submission Dates and Times

The closing date and time for receipt of proposal submissions is August 25, 2021, at 11:59 p.m., EDT, via Grants.gov (www.grants.gov). Proposals received after the submission deadline will be considered late without further consideration. Proposals must be submitted through Grants.gov without exception. Additionally, organizations must also be registered in the System of Awards Management (SAM) at: www.sam.gov. Creating an account for both websites can take several weeks to receive account verification and/or PIN numbers. Allow sufficient time to complete access requirements for these websites. Grants.gov supports many Federal granting agencies and their applicants. Delaying the submission of your application until the last day could be result in your application not being received on time due to issues pertaining to a high volume of users, system maintenance, issues with registration, having a pending registration because of a backlogged system, and expired SAM.gov registrations. The proposal submission deadline is firm.

G. Confidential Information

In accordance with 2 CFR part 200, the names of entities submitting proposals, as well as proposal contents and evaluations, will be kept confidential to the extent permissible by law. Any information that the applicant wishes to have considered as confidential, privileged, or proprietary should be clearly marked as such in the proposal. If an applicant chooses to include confidential or proprietary information in the proposal, it will be kept confidential to the extent permitted by law.

H. Pre-Submission Proposal Assistance

1. The OPPE may not assist individual applicants by reviewing draft proposals or providing advice on how to respond to evaluation criteria. However, the OPPE will respond to questions from individual applicants regarding eligibility criteria, administrative issues related to the submission of the proposal, and requests for clarification regarding the announcement. Any questions should be submitted to 2501Grants@usda.gov. Additionally, the OPPE will host public teleconferences to address questions and clarify requirements during the open period of this solicitation. Dates, time, and phone numbers are provided on Page 1 of this announcement.

2. The OPPE will post questions and answers relating to this funding opportunity during its open period on the Frequently Asked Questions (FAQs) section of our website: www.partnerships.usda.gov/socially-disadvantaged-farmers-and-ranchers. Reviewing this section of our website will likely save you valuable time. The OPPE will update the FAQs on a weekly basis and conduct teleconferences on an as-needed basis.

3. Visit our website at: www.partnerships.usda.gov/socially-disadvantaged-farmers-and-ranchers to review the most recent Terms and Conditions for administering our grants. This version is subject to change upon new program requirements.

4. Applicants selected for funding must inform their participants that USDA, or any of its third-party representatives, may contact them for quality assurance.

V. Application Review Information

A. Evaluation Criteria

Only eligible entities whose proposals meet the threshold criteria in Section III of this announcement will be reviewed according to the evaluation criteria set forth below. Applicants should explicitly and fully address these criteria as part of their proposal package. Each proposal will be evaluated under the regulations established under 2 CFR part 200.

The Panel will use a point system to rate each proposal, awarding a maximum of 105 points for nonprofit and community-based organizations (70 points, plus an additional 35 priority points for secretarial priorities) and 100 points for all other applicants (70 points, plus an additional 30 discretionary points for secretarial priorities). Each proposal will be reviewed by at least two members of the Panel. Panel members will review and score all submitted applications. The Panel will numerically score and rank each application. Funding decisions will be based on the Panel's rank score. Final funding decisions will be made by the designated approving official and are not appealable.

Please be patient as processing all submitted applications, vetting organizations, proposal reviews, approval process, and agreement creation is a lengthy process. All applicants will be notified electronically of their application status when final selections have been made and will be provided an opportunity for application feedback as provided within the correspondence.

Evaluation Criteria for New Grants Proposals
Criteria | Points
1. Project Narrative (up to 30 points): Under this criterion, your proposal must address at least two of the five programmatic mission areas identified in Section I, Part B, Scope of Work and will be evaluated to the extent to which the narrative includes a well-conceived strategy for addressing those requirements and objectives (see Section IV, Part D). Project Narrative, for additional information. Note that applicants may assist either socially disadvantaged farmers and ranchers, or veteran farmers and ranchers, or both groups in their proposal. There are no additional points for addressing both of these groups. Conversely, there are no points deducted if your proposal addresses only one of these groups. | Up to 30 of 60.
○ Nongovernmental and community-based organizations with a documented history working with socially disadvantaged and/or veteran farmers or ranchers will automatically receive five (5) priority points (per the 2018 Farm Bill provision for priority status).
In addition, the OPPE may award up to 30 priority points (six points for each bullet shown below) as follows: | Up to 30 of 60.
○ Projects with a focus on socially disadvantaged and veteran
• heirs' property issues/resolutions;
• financial literacy and business planning;
• increased profitability of agricultural operations of through effective and proven marketing opportunities to increase access to capital and markets.
○ Projects that align with the implementation of Secretarial priorities to:
• Increase land access, resolve heir's property and other land title issues, advance education and career pathways related to farming, ranching, forestry and agriculture, or increase access to credit;
• Provide avenues for producers to be part of strengthening the food supply chain and building a food system that is fair, resilient, distributed, and equitable and that contributes to SDA and veteran producer's ability to make a living, e.g., via more and better markets;
• Promote the use of multiple USDA programs within USDA along with partnering and promoting assistance available outside of USDA (this includes state, local, tribal, and other Federal resources); and
• Generate and maintain wealth in and for rural and tribal communities via local and regional business opportunities and other rural development efforts designed to advance economic, social and health equity.
○ Projects that address climate change with climate smart ag and forestry solutions including, but not limited to:
• Building resilience to climate change and increasing agricultural productivity;
• efficient and renewable energy practices; and
• soil, land, and water conservation practices that preserve natural and agricultural ecosystems.
○ Projects that focus on removing systemic barriers and increase equitable participation in USDA's programs and services, especially projects located in rural communities and persistent poverty census tracts and/or counties;
○ Projects designed to access and create new and fair market opportunities to assist socially disadvantaged, veteran, beginning farmers and/or ranchers (including youth projects).
2. Programmatic Capability: Under this criterion, applicants will be evaluated based on their ability to successfully complete and manage the proposed project considering the applicant's: Organizational experience, staff expertise and qualifications, and the organization's resources (see Section IV, Part D. Programmatic Capability). The organization must clearly document its historical successes and future plans to continue assisting socially disadvantaged and veteran farmers and ranchers. | Up to 10.
3. Financial Management Experience: Under this criterion, applicants will be evaluated based on their demonstrated ability to successfully complete and manage the proposed project considering the applicants' past performance in successfully completing and managing prior funding agreements (see Section IV, Part D, Financial Management Experience). Past performance documentation on successfully completed projects may be at the Federal, state, or local community level. Per 2 CFR part 200 .205, if an applicant is a prior recipient of Federal awards, their record in managing that award will be reviewed, including timeliness of compliance with applicable reporting requirements and adherence to the terms and conditions of previous Federal awards. | Up to 5.
4. Tracking and Measuring: Under this criterion, the applicant's proposal will be evaluated based upon clearly documenting a detailed plan for tracking and measuring their progress toward completing the expected project outputs (see Section I, Part C Outputs (Activities)). Applicants should indicate how they intend to clearly document the effectiveness of their project in achieving proposed thresholds or benchmarks in relation to stated goals and objectives (see Section I, Part C, 2, Outcomes (Results)). For example, state how your organization plans to connect socially disadvantaged or veteran farmers or ranchers with USDA agricultural programs. Specifically, how many new or existing farmers and ranchers were assisted in applying for USDA's programs and services, versus the number of farmers and ranchers approved. Applicants must clearly demonstrate how they will ensure timely and successful completion of the project with a reasonable time schedule for execution of the tasks associated with the project. This criterion should clearly address how you will quantify the tracking of your progress and measuring the success of your planned project (see Section I, Part C, 3, Performance Measures). | Up to 15.
5. Budget: Under this criterion, your proposed project budget will be evaluated to determine whether costs are reasonable, allowable, allocable, and necessary to accomplish the proposed goals and objectives (see 2 CFR part 200 .404 and Appendix II-D). The proposed budget must provide a detailed breakdown of the approximate funding used for each major activity (see Section IV, Part D. Budget Narrative). Additionally, indirect costs (10 percent maximum) must be appropriately applied. For a list of unallowable costs, see 2 CFR part 200, subpart E. | Up to 10.

C. Selection of Panel Members

All eligible applications will be reviewed by the Panel. Panel members are selected based upon training and experience in assisting socially disadvantaged and veteran farmers and ranchers. This assistance includes, but is not limited to, bringing increased awareness of USDA's programs and services in underserved communities, outreach, technical assistance, cooperative extension services, civil rights, education, statistical and ethnographic data collection and analysis, and agricultural programs, and are drawn from a diverse group of experts, including applicant peers, to create a balanced panel.

VI. Award Administration Information

A. Award Notices

Proposal Notifications and Feedback

1. Successful applicants will be notified by the OPPE via telephone, email, and/or postal mail that its proposed project has been recommended for award. The notification will be sent to the Project Manager listed on the SF-424, Application for Federal Assistance. Project Managers should be the Authorized Organizational Representative (AOR) and authorized to sign on behalf of the organization. It is imperative that this individual is responsive to notifications by the OPPE. If the individual is no longer in the position, notify the OPPE immediately to submit the new contact for the application by updating your organization's Key Contacts form and forwarding a résumé of the new key personnel. The grant agreement will be forwarded to the recipient for execution and must be returned to the OPPE Director, who is the authorizing official. Once grant documents are executed by all parties, authorization to begin work will be given. At a minimum, this process can take up to 30 days from the date of notification.

2. Within 10 days of award status notification, unsuccessful applicants may request feedback on their application. Feedback will be provided as expeditiously as possible. Feedback sessions will be scheduled contingent upon the number of requests and in accordance with 7 CFR 2500.026.

B. Administrative and National Policy Requirements

All awards resulting from this solicitation will be administered in accordance with the Office of Management and Budget (OMB) Uniform Administrative Requirements, Cost Principles, and Audit Requirements for Federal Awards codified at 2 CFR part 200, as supplemented by USDA implementing regulations at 2 CFR parts 400 and 415, and the OPPE Federal Financial Assistance Programs—General Award Administrative Procedures, 7 CFR part 2500. In compliance with its obligations under Title VI of the Civil Rights Act of 1964 and Executive Order 13166, it is the policy of the OPPE to provide timely and meaningful access for persons with Limited English Proficiency (LEP) to projects, programs, and activities administered by Federal grant recipients. Recipient organizations must comply with these obligations upon acceptance of grant agreements as written in the OPPE's Terms and Conditions. Following these guidelines is essential to the success of our mission to improve access to USDA programs for socially disadvantaged and veteran farmers and ranchers.

C. Reporting Requirement

Your approved statement of work, timeline, and budget are your guiding documents in carrying out the activities of your project and for your reporting requirements. Familiarize yourself with USDA's grants management system called ezFedGrants: https://www.nfc.usda.gov/FSS/ClientServices/ezFedGrants/. In accordance with 2 CFR part 200, the following reporting requirements will apply to awards provided under this FOA. The OPPE reserves the right to revise the schedule and format of reporting requirements as necessary in the award agreement.

1. Semi-annual Progress Reports and Financial Reports will be required as follows:

• Semi-annual Progress Reports. The recipient is required to provide a detailed narrative of project performance and activities as described in the award agreement. Semi-annual progress reports must be submitted to the designated OPPE official via ezFedGrants within 30 days after the end of each reporting period. This includes, but is not limited to, activities completed, events held, and the release of sign-in sheets with participants' contact information.

• Semi-annual Financial Reports. The recipient must submit SF 425, Federal Financial Report to the designated OPPE official via ezFedGrants within 30 days after the end of each reporting period.

2. Final Progress and Financial Reports will be required upon project completion. The Final Progress Report must include a summary of the project or activity throughout the funding period, achievements of the project or activity, and a discussion of overall successes and issues experienced in conducting the project or project activities. It should convey the impact your project had on the communities you served and discuss the project's accomplishments in achieving expected outcomes. This requirement includes, but is not limited to, the number of new USDA applicants as a result of your award, the number of approved applicants for USDA programs and services, increased awareness of USDA programs and services, etc.

3. The final Financial Report should consist of a complete SF-425 indicating the total costs of the project. Final Progress and Financial Reports must be submitted to the designated OPPE official via ezFedGrants within 120 days after the completion of the award period as follows:

Report | Performance period | Due date | Grace period
Form SF-425, Federal Financial Report & Performance Progress Report (Due semi-annually) | 1 October thru 31 March; 1 April thru 30 September | March 31; September 30 | 30 days until 30 April; 30 days until 30 October.
Final Financial and Progress Reports | 120 days after project completion
* Dates subject to change at the discretion of OPPE.

Signed this 20th day of July 2021.
William Ashton,
Acting Director, Office of Partnerships and Public Engagement.

[FR Doc. 2021-15702 Filed 7-23-21; 8:45 am]

BILLING CODE 3412-89-P